DEPARTMENT OF HEALTH AND HUMAN SERVICES

Indian Health Service

Proposed Information Collection: Request for Public Comment: 30-Day Notice

AGENCY: Indian Health Service, HHS.

ACTION: Request for public comment: 30-day proposed information collection: IHS Urban Indian Health Program Common Reporting Requirements.

SUMMARY: The Indian Health Service, as part of its continuing effort to reduce paperwork and respondent burden, conducts a pre-clearance consultation program to provide the general public and Federal agencies with an opportunity to comment on proposed and/or continuing collection of information in accordance with the Paperwork Reduction Act of 1995 (44 U.S.C. 3506(c)(2)(A)). This program helps to ensure that requested data can be provided in the desired format, reporting burden (time and financial resources) is minimized, collection instruments are clearly understood, and the impact of collection requirements on respondents can be properly assessed. As required by section 3507(a)(1)(D) of the Act, the proposed information collection has been submitted to the Office of Management and Budget (OMB) for review and approval. The IHS received no comments in response to the 60-day Federal Register notice (FR 04-8721) published on 4/19/04. The purpose of this notice is to allow an additional 30 days for public comment to be submitted directly to OMB.

Proposed Collection

Title: 0917-0007, “IHS Urban Indian Health Program Common Reporting Requirements.”

Type of Information Collection Request: Extension of a currently approved information collection.

Form Number: The report formats are contained in IHS instruction manual, “Urban Indian Health Programs Common Reporting Requirements.” The reporting formats have been computerized for electronic data submission.

Need and Use of Information Collection: IHS contracts with urban Indian organizations to: access and identify health services available to urban Indians; provide health education and health services to urban Indians; identify the unmet health needs of urban Indians; and, make recommendations on methods to improve health services provided to urban Indians. The information is collected annually and used to: monitor contractor performance; prepare budget reports; allocate resources; and, access and evaluate the urban Indian health contract programs.

Affected Public: Individuals or households, not-for-profit institutions, and State, Local or Tribal Government.

Type of Respondents: Urban Indian Health care organizations.

The table below provides the following: types of data collection instruments, estimated number of respondents, number of responses per respondent, annual number of responses, average burden hours per response, and total annual burden hours.

Data collection instruments | Estimated number of respondents | Responses per respondent | Annual number of responses | Average burden hrs per response* | Total annual burden hrs
Face Sheet | 34 | 1 | 34 | 0.50 (30 mins) | 17.0
Table 1 | 34 | 1 | 34 | 2.00 (120 mins) | 68.0
Table 2 | 34 | 1 | 34 | 0.75 (45 mins) | 25.5
Table 3 | 34 | 1 | 34 | 2.25 (135 mins) | 76.5
Table 3A | 34 | 1 | 34 | 1.05 (65 mins) | 36.0
Table 3B | 34 | 1 | 34 | 0.25 (15 mins) | 8.5
Table 3C | 34 | 1 | 34 | 0.33 (20 mins) | 11.0
Table 3D | 34 | 1 | 34 | 1.25 (75 mins) | 42.5
Table 4 | (**) | 1 |  | 0.50 (30 mins) | 17.0
Table 5 | 34 | 1 | 34 | 2.00 (120 mins) | 68.0
Table 6 | 34 | 1 | 34 | 2.00 (120 mins) | 68.0
Table 7 | 34 | 1 | 34 | 1.00 (60 mins) | 34.0
Table 8 | 34 | 1 | 34 | 1.25 (75 mins) | 42.5
Total | 408 | 14 | 408 | 15.13 (910 mins) | 514.5
* For ease of understanding, burden hours are also provided in actual minutes.
** Excludes Urban Indian Health projects with no medical component.

There are no Capital Costs, Operating Costs and/or Maintenance Costs required for this collection of information.

Request for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, directly to: Office of Management and Budget, Office of Regulatory Affairs, New Executive Office Building, Room 10235, Washington, DC 20503, Attention: Allison Eydt, Desk Officer for IHS.

Send requests for more information on the proposed collection or to obtain a copy of the data collection instrument(s) and instructions to: Ms. Christina Ingersoll, IHS Reports Clearance Office, 12300 Twinbrook Parkway, Suite 450, Rockville, MD 20852-1601, call non-toll free (301) 443-5938, send via facsimile to (301) 443-2316, or send your e-mail requests, comments, and return address to: cingerso@hqe.ihs.gov.

For further information directly pertaining to the proposed data collection instruments and/or the process, please contact Karen Boyle, Reyes Building, 801 Thompson Avenue, Suite 200, Rockville, MD 20852-1627, Telephone (301) 443-4680.

Comment Due Date: Your comments regarding this information collection are best assured of having their full effect if received within 30 days of the date of this publication.

Dated: August 6, 2004.
Charles W. Grim,
Assistant Surgeon General, Director, Indian Health Service.

[FR Doc. 04-19880 Filed 8-31-04; 8:45 am]

BILLING CODE 4160-16-M